DEPARTMENT OF THE INTERIOR

Bureau of Land Management

[NV-930-5870-EU; N-75370, N-75371]

Competitive Sale of Public Land and Partial Termination of Recreation and Public Purposes Act Classifications in Douglas County, NV

AGENCY: Bureau of Land Management, Interior.

ACTION: Notice of realty action.

SUMMARY: The Bureau of Land Management (BLM) is identifying for sale public land encompassing 206.25 acres more or less in North Douglas County, NV, in accordance with competitive bidding procedures. The BLM is also terminating Recreation and Public Purpose Act classifications on this same land.

DATES: Comments must be submitted by October 11, 2005. Sealed bids must be received by BLM not later than 3 p.m. (PDT) October 20, 2005. The oral auction will be held at 10 a.m. (PDT) on October 27, 2005, with registration beginning at 9:30 a.m. (PDT).

ADDRESSES: Comments regarding this competitive sale should be addressed to Donald T. Hicks, Manager, Carson City Field Office, Bureau of Land Management, 5665 Morgan Mill Road, Carson City, NV 89706. Sealed bids are to be sent following the instructions given later in this announcement to 5665 Morgan Mill Road, Carson City, NV 89706. The oral auction will be held at the Douglas County Administration Building, 1616 8th Street, Minden, Nevada 89423.

FOR FURTHER INFORMATION CONTACT: An Auction and Sealed Bid Terms and Conditions package containing complete instructions, sealed bid form, documents, maps, and other information on the land can be obtained by: (1) Calling the Public Land Sales Hotline at (775) 885-6111; (2) visiting the public reception desk at the Carson City Field Office from 7:30 a.m. to 4:30 p.m. Monday through Friday (except Federal Holidays), or (3) visiting the Web site at http://www.nv.blm.gov/carson/lands_realty/landsales.htm.

SUPPLEMENTARY INFORMATION: In accordance with Section 7 of the Taylor Grazing Act, 43 U.S.C. 315f, and Executive Order No. 6910, the public lands described below are classified for disposal by sale. These public lands have been examined and found suitable for disposal by competitive sale pursuant to Section 203 and Section 209 of the Federal Land Policy and Management Act of 1976 (FLPMA) (43 U.S.C. 1713 and 1719, respectively) and its implementing regulations, 43 Code of Federal Regulations (CFR) parts 2710 and 2720 at not less than the appraised Fair Market Value (FMV) of each parcel, as determined by the authorized officer after appraisal. The land is identified for disposal in the Carson City Consolidated Resource Management Plan and the North Douglas Specific Area Plan Amendment. Proceeds from the sale will be deposited in the Federal Land Disposal Account for Nevada established in accordance with Section 206(a) of the Federal Land Transaction Facilitation Act of 2000, Pub. L. 106-248. Upon publication of this Notice the land described is hereby segregated from appropriation under the public land laws, including the mining laws, but not from disposal by sale under the above cited statutes, for 270 days from publication of this Notice in the Federal Register, or until title transfer is completed, whichever occurs first. On April 16, 2002, this land was segregated from appropriation under the public land laws to consider an exchange proposal. This exchange segregation is hereby terminated and is replaced by the sale segregation in this Notice once published. Previous classifications for Recreation and Public Purposes under case numbers N-3742, N-3743 and N-12656, as they affect the described land, are no longer appropriate and are hereby terminated. In addition, the subject land is relieved of the segregative effect of those classifications.

Land Identified for Sale

Mount Diablo Meridian

T. 14 N., R. 20 E.

Parcel N-75370

sec. 5, NW¼SW¼NE¼SW¼, S½SW¼NE¼SW¼, SE¼NW¼SW¼, SE¼SW¼NW¼SW¼, N½SW¼SW¼, NE¼SW¼SW¼SW¼, N½NW¼SW¼SW¼SW¼, E½SE¼SW¼SW¼, NW¼SE¼SW¼SW¼, E½SW¼SE¼SW¼SW¼, W½NW¼SE¼SW¼ and W½SW¼SE¼SW¼.

sec. 6, N½NE¼SE¼SE¼SE¼ and NW¼SE¼SE¼SE¼.

sec. 8, NE¼NW¼.

Comprising 106.25 acres, more or less.

Parcel N-75371

sec. 5, E½E½ of Lot 1 of NW¼, NW¼NW¼E½ of lot 1 of NW¼, S½NW¼E½ of lot 1 of NW¼, SW¼E½ of Lot 1 of NW¼, E½W½ of lot 1 of NW¼, E½NE¼SW¼, NW¼NE¼SW¼, NE¼SW¼NE¼SW¼, and NE¼NW¼SW¼.

Comprising 100 acres more or less.

Terms and Conditions

Conveyance of the available mineral interests will occur simultaneously with the sale of the land. The mineral interests being identified for sale have no known mineral value. A sale offer will constitute an application for conveyance of those mineral interests. In conjunction with the final payment, the applicant will be required to pay a $50.00 non-refundable filing fee for processing the conveyance of the mineral interests. Competitive sale of the land will be conducted by sealed bid and oral auction. The parcels will not be sold for less than their FMV. The FMV is $6,400,000 for N-75370 and $10,000,000 for N-75371. Each sealed bid shall be accompanied by money order, certified check, bank draft, or cashier's check made payable to the Bureau of Land Management for not less than 20 percent of the bid amount. The official sealed bid form to be used is included in the Auction and Sealed Bid Terms and Conditions package. The highest qualified sealed bid received by BLM for each parcel will become the starting bid at the oral auction. If no sealed bids are received, oral bidding will begin at the FMV, as determined by the authorized officer. Bidders are to enclose their bid form and deposit in a regular size 10 white business envelope. Envelopes are to be addressed to the Bureau of Land Management, 5665 Morgan Mill Road, Carson City, NV 89706. All bidders are to print their name and return address in the upper left-hand corner of the envelope, and write the BLM Serial Number (either N-75370 and/or N-75371) for the parcel(s) for which they are bidding in the lower front left-hand corner of the envelope. If you are bidding on both parcels, you must submit a separate check for each property. Sealed bids may be mailed, hand delivered, or placed with an overnight delivery carrier. The oral auction begins at 10 a.m., PDT, October 27, 2005, at the Douglas County Administration Building, 1616 8th Street, Minden, Nevada 89423. Registration for oral bidding will begin at 9:30 a.m., PDT, the day of sale.

Prior to receiving a bidder number on the day of the sale, individuals must present a valid State Driver's License or valid Photo Identification Card, and a money order, certified check, bank draft, or cashier's check made payable to the Bureau of Land Management in the amount of $10,000.

The highest qualifying bid, whether by sealed or oral bid, will be declared the high bid. If the apparent high bidder is by oral auction the bidder must submit a $10,000 check at the auction site. The remainder of the 20 percent of the amount bid must be submitted to BLM at the Carson City Field Office not later than 3 p.m. (PDT) on the date of the sale in the form of a money order, certified check, bank draft, or cashier's check made payable to the Bureau of Land Management. The remainder of the full bid price, whether sealed or oral, must be paid within 180 calendar days of the sale date in the form of a money order, certified check, bank draft, cashier's check or by Electronic Funds Transfer. Failure to submit sufficient funds for the bid deposit or failure to pay the full price within the 180 days will disqualify the apparent high bidder and cause the entire bid deposit to be forfeited to the BLM.

Federal law requires bidders to be U.S. citizens 18 years of age or older; a corporation subject to the laws of any State or of the United States; a State, State instrumentality, or political subdivision authorized to hold property; or an entity including, but not limited to, associations or partnerships capable of holding property or interests therein under the law of the State of Nevada. Certification of qualification, including citizenship or corporation or partnership, must accompany the bid deposit. The BLM may not issue a patent or deed to a person other than the declared successful bidder and qualified conveyee or patentee in a disposal action. An appraisal report has been prepared by a certified appraiser to establish the FMV of the parcels. In order to determine the FMV of the subject public land through appraisal, certain assumptions have been made of the attributes and limitations of the land and potential effects of local regulations and policies on potential future land uses. Through publication of this Notice, the Bureau of Land Management gives notice that these assumptions may not be endorsed or approved by units of local government. Furthermore, no warranty of any kind shall be given or implied by the United States as to the potential uses of the land identified for sale, and conveyance of the subject land will not be on a contingency basis. It is the buyer's responsibility to be aware of all applicable local government policies and regulations that would affect the subject land. It is also the buyer's responsibility to be aware of existing or projected use of nearby properties. When conveyed out of Federal ownership, the land will be subject to any applicable reviews and approvals by the respective unit of local government for proposed future uses, and any such reviews and approvals will be the responsibility of the buyer.

Detailed information concerning the property, including encumbrances, reservations, planning and environmental documents, is available for review at the Bureau of Land Management, Carson City Office, 5665 Morgan Mill Road, Carson City, NV 89701 by calling (775) 885-6115. For a period of 45 days from the date of publication of this notice in the Federal Register, the general public and interested parties may submit comments. Any comments are to be in letter format citing specific reasons for your objection and are to be addressed and mailed to Donald T. Hicks, Manager, Carson City Field Office, Bureau of Land Management, 5665 Morgan Mill Road, Carson City, NV 89701. Facsimiles, telephone calls, and e-mails are unacceptable means of notification. Any adverse comments will be reviewed by the State Director, who may sustain, vacate, or modify this realty action in whole or in part. In the absence of any adverse comments, this realty action will become the final determination of the Bureau of Land Management. The Bureau of Land Management may accept or reject any or all offers, or withdraw any land or interest in the land from sale, if, in the opinion of the authorized officer, consummation of the sale would not be fully consistent with FLPMA or other applicable laws or is determined to not be in the public interest. Any comments received during this process, as well as the commentator's name and address, will be available to the public in the administrative record and/or pursuant to a Freedom of Information Act request. You may indicate for the record that you do not wish your name and/or address be made available to the public. Any determination by the Bureau of Land Management to release or withhold the names and/or addresses of those who comment will be made on a case-by-case basis. A commentator's request to have his or her name and/or address withheld from public release will be honored to the extent permissible by law.

Sealed bids may not be submitted for the above-described lands until at least October 25, 2005. Patent (title document) will be issued with a reservation for a right-of-way for ditches and canals constructed by the authority of the United States under the Act of August 30, 1890 (43 U.S.C. 945) and will be subject to valid existing rights and the following encumbrances of record:

Parcel N-75370

(1) Those rights for buried communication purposes which have been granted to Verizon California, Inc. by Right-of-Way N-353 under the Act of March 4, 1911 (36 Stat. 1253; 43 U.S.C. 961).

(2) Those rights for buried communication purposes which have been granted to Verizon California, Inc. by Right-of-Way N-31119 under the Act of October 21, 1976 (90 Stat. 2776; 43 U.S.C. 1761).

(3) Those rights for buried communication purposes which have been granted to Verizon California, Inc. by Right-of-Way N-32152 under the Act of October 21, 1976 (90 Stat. 2776; 43 U.S.C. 1761).

(4) Those rights for access purposes which have been granted to Ranchos Community Church by Right-of-Way N-39139 under the Act of October 21, 1976 (90 Stat. 2776; 43 U.S.C. 1761).

(5) Those rights for access road, water, and sewer purposes and as amended to include road improvements, and additional buried utility lines and related structures along North Sunridge Drive, which have been granted to Douglas County by Right-of-Way N-56768 by the Act of October 21, 1976 (90 Stat. 2776; 43 U.S.C. 1761),

(6) Those rights for natural gas pipeline purposes which have been granted to Southwest Gas Corporation by Right-of-Way N-58973 pursuant to Section 28 of the Mineral Leasing Act of 1920 as amended (30 U.S.C. 185).

(7) Those rights for emergency access road purposes which have been granted to Douglas County by Right-of-Way N-59346 by the Act of October 21, 1976 (90 Stat. 2776; 43 U.S.C. 1761).

(8) Those rights for natural gas pipeline purposes which have been granted to Southwest Gas Corporation by Right-of-Way N-59816 pursuant to Section 28 of the Mineral Leasing Act of 1920 as amended (30 U.S.C. 185).

(9) Those rights for water and sewer purposes which have been granted to Douglas County by Right-of-Way N-74267 by the Act of October 21, 1976 (90 Stat. 2776; 43 U.S.C. 1761).

(10) Those rights for buried 612 volt electrical vault and buried 25kV distribution line which have been granted to Sierra Pacific Power Company by Right-of-Way N-76532 under the Act of October 21, 1976 (90 Stat. 2776; 43 U.S.C. 1761).

(11) Those rights to Douglas County for realignment of Topsy Lane, improvement of Center Drive, access to the sewer line, a domestic water well and water main, detention basin, sanitary sewer line and lift station, water lines and other buried utility lines (excluding gas) by Right-of-Way N-78552 under the Act of October 21, 1976 (90 Stat. 2776; 43 U.S.C. 1761).

Parcel N-75371

(1) Those rights for buried communication purposes which have been granted to Verizon California, Inc. by Right-of-Way N-353 under the Act of March 4, 1911 (36 Stat. 1253; 43 U.S.C. 961).

(2) Those rights for electric line purposes which have been granted to Sierra Pacific Power Company by Right-of-Way N-7836 under the Act of March 4, 1911 (36 Stat. 1253; 43 U.S.C. 961).

(3) Those rights for a buried natural gas pipeline which have been granted to Piaute Pipeline Company by Right-of-Way N-17001 under Section 28 of the Mineral Leasing Act of 1920 (30 U.S.C. 185).

(4) Those rights for buried communication purposes which have been granted to Verizon California, Inc. by Right-of-Way N-31119 under the Act of October 21, 1976 (90 Stat. 2776; 43 U.S.C. 1761).

(5) Those rights for buried communication purposes which have been granted to Verizon California, Inc. by Right-of-Way N-32152 under the Act of October 21, 1976 (90 Stat. 2776; 43 U.S.C. 1761).

(6) Those rights to Douglas County for realignment of Topsy Lane, improvement of Center Drive, access to the sewer line, a domestic water well and water main, detention basin, sanitary sewer line and lift station, water lines and other buried utility lines (excluding gas) by Right-of-Way N-78552 under the Act of October 21, 1976 (90 Stat. 2776; 43 U.S.C. 1761).

The purchaser/patentee, by accepting a patent, agrees to indemnify, defend, and hold the United States harmless from any costs, damages, claims, causes of action, penalties, fines, liabilities, and judgments of any kind or nature arising from the past, present, and future acts or omissions of the patentee or its employees, agents, contractors, or lessees, or any third-party, arising out of or in connection with the patentee's use, occupancy, or operations on the patented real property. This indemnification and hold harmless agreement includes, but is not limited to, acts or omissions of the patentee or its employees, agents, contractors, or lessees, or any third party, arising out of or in connection with the patentee's use occupancy, or operations on the patented real property which have already resulted or hereafter result in: (1) Violations of Federal, state, and local laws and regulations that are now, or may in the future become, applicable to the real property; (2) Judgments, claims or demands of any kind assessed against the United States; (3) Costs, expenses, or damages of any kind incurred by the United States; (4) Releases or threatened releases of solid or hazardous waste(s) and/or hazardous substances(s), as defined by Federal or state environmental laws, off, on, into or under land, property and other interests of the United States; (5) Other activities by which solid or hazardous substances or wastes, as defined by Federal and state environmental laws, are generated, released, stored, used, or otherwise disposed of on the patented real property, and any cleanup response, remedial action, or other actions related in any manner to said solid or hazardous substances or wastes; or (6) natural resource damages as defined by Federal and state law. This covenant shall be construed as running with the patented real property and may be enforced by the United States in a court of competent jurisdiction.

Dated: July 12, 2005.
Donald T. Hicks,
Manager, Carson City Field Office.

[FR Doc. 05-16870 Filed 8-25-05; 8:45 am]

BILLING CODE 4310-HC-P